DEPARTMENT OF COMMERCE

International Trade Administration

[A-122-822, A-428-815]

Preliminary Results of Antidumping Duty Changed Circumstances Reviews And Notice of Intent to Revoke Orders in Part: Certain Corrosion-Resistant Carbon Steel Flat Products from Canada and Germany

AGENCY: Import Administration, International Trade Administration, Department of Commerce.

SUMMARY: On December 28, 2005, the U.S. Department of Commerce (the Department) published a notice of initiation of changed circumstances reviews with the intent to revoke, in part, the antidumping duty orders on certain corrosion-resistant carbon steel flat products (corrosion-resistant steel) from Canada and Germany, as described below. See Initiation of Antidumping Duty Changed Circumstances Reviews: Certain Corrosion-Resistant Carbon Steel Flat Products from Canada and Germany, 70 FR 76763 (December 28, 2005) (Initiation Notice). In our Initiation Notice, the Department invited interested parties to comment on the request to exclude “wear plate” (described below) from the scope of these orders. The Department received no comments.

Absent any comments, the Department preliminarily concludes that producers accounting for substantially all of the production of the domestic like product to which these orders pertain, lack interest in the relief provided by these orders with respect to wear plate. Therefore, the Department preliminarily concludes that it is appropriate to revoke these orders, in part, with respect to unliquidated entries of wear plate, not subject to the final results of an administrative review, that have been entered for consumption on or after August 1, 2005, based on the fact that domestic parties have made an affirmative statement of no interest in the continuation of the orders with respect to that merchandise.

EFFECTIVE DATE: February 8, 2006.

FOR FURTHER INFORMATION CONTACT: Angelica Mendoza or Abdelali Elouaradia, AD/CVD Operations, Office 7, Import Administration, International Trade Administration, U.S. Department of Commerce, 14th Street and Constitution Ave., NW, Washington, DC 20230; telephone: (202) 482-3019 and (202) 482-1374, respectively.

SUPPLEMENTARY INFORMATION:

Background

The Department published the antidumping duty orders on corrosion-resistant steel from Canada and Germany on August 19, 1993. See Notice of Antidumping Duty Order: Corrosion-Resistant Carbon Steel Flat Products from Canada, 58 FR 44162. See also Notice of Antidumping Duty Order: Corrosion-Resistant Carbon Steel Flat Products from Germany, 58 FR 44170. On November 7, 2005, Eutectic, a U.S. importer, requested that the Department exclude a product commonly known as wear plate and marketed under the name of “CastoDur Diamond Plate” from the scope of these orders. See Eutectic's submissions to the Secretary, dated November 7, 2005 (Eutectic Requests). In those submissions, Eutectic included letters from petitioners and domestic interested parties in these cases stating that they had no interest in retaining this product in the scope of these orders.

On December 28, 2005, the Department published a notice of initiation of changed circumstances reviews of the antidumping duty orders on corrosion-resistant steel from Canada and Germany. See Initiation Notice. In the Initiation Notice, the Department indicated that interested parties could submit comments for consideration in the Department's preliminary results no later than 15 days after publication of the initiation of these reviews, and submit responses to those comments no later than 7 days following the submission of comments. The Department received no comments from interested parties.

Scope of the Orders

The products covered by each of these orders are corrosion-resistant carbon steel flat products (corrosion-resistant steel) from Canada and Germany, respectively. This scope includes flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule of the United States (HTSUS) under item numbers: 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, 7217.90.5090. Included in these orders are flat-rolled products of non-rectangular cross-section where such cross-section is achieved subsequent to the rolling process (i.e., products which have been “worked after rolling”) for example, products which have been beveled or rounded at the edges. Excluded from these orders are flat-rolled steel products either plated or coated with tin, lead, chromium, chromium oxides, both tin and lead (“terne plate”), or both chromium and chromium oxides (“tin-free steel”), whether or not painted, varnished or coated with plastics or other nonmetallic substances in addition to the metallic coating. Also excluded from these orders are clad products in straight lengths of 0.1875 inch or more in composite thickness and of a width which exceeds 150 millimeters and measures at least twice the thickness. Also excluded from these orders are certain clad stainless flat-rolled products, which are three-layered corrosion-resistant carbon steel flat-rolled products less than 4.75 millimeters in composite thickness that consist of a carbon steel flat-rolled product clad on both sides with stainless steel in a 20%%-60%%-20%% ratio.

On September 22, 1999, the Department issued the final results of a changed circumstances review partially revoking the order with respect to certain corrosion-resistant steel from Germany.¹ This partial revocation applies to certain corrosion-resistant deep-drawing carbon steel strip, roll-clad on both sides with aluminum (AlSi) foils in accordance with St3 LG as to EN 10139/10140. The merchandise's chemical composition encompasses a core material of U St 23 (continuous casting) in which carbon is less than 0.08; manganese is less than 0.30; phosphorous is less than 0.20; sulfur is less than 0.015; aluminum is less than 0.01; and the cladding material is a minimum of 99%% aluminum with silicon/copper/iron of less than 1%%. The products are in strips with thicknesses of 0.07mm to 4.0mm (inclusive) and widths of 5mm to 800mm (inclusive). The thickness ratio of aluminum on either side of steel may range from 3%%/94%%/3%% to 10%%/80%%/10%%.

¹ See Final Results of Changed Circumstances Antidumping Duty and Countervailing Duty Reviews and Revocation of Orders in Part: Certain Corrosion-Resistant Carbon Steel Flat Products from Germany, 64 FR 51292 (September 22, 1999). The Department noted that the affirmative statement of no interest by petitioners, combined with the lack of comments from interested parties, is sufficient to warrant partial revocation.

The HTSUS item numbers are provided for convenience and Customs purposes. The written description remains dispositive.

Scope of Changed Circumstances Reviews

The products subject to these changed circumstances reviews are certain corrosion-resistant carbon steel flat products from Canada and Germany meeting the following description: certain flat-rolled wear plate ranging from 30 inches to 50 inches in width, from 45 inches to 110 inches in length and from 0.187 inch to 0.875 inch in total thickness, having a layer on one side composed principally of a combination of boron carbides, chromium carbides, nickel carbides, silicon carbides, manganese carbides, niobium carbides, iron carbides, tungsten carbides, vanadium carbides, titanium carbides and/or molybdenum carbides fused to a non-alloy flat-rolled steel substrate. The carbides are in the form of MxCx where “M” stands for the metal and “x” for the atomic ratio. An example of a common carbide would be (Cr7C3). The carbide layer is a visually distinct layer ranging in thickness from 0.062 inch to 0.312 inch with hardness at the surface of the carbide layer in excess of 55 HRC. See Eutectic Requests at 1.

Preliminary Results of Reviews and Intent to Revoke in Part the Antidumping Duty Orders

Pursuant to sections 751(d)(1) of the Tariff Act of 1930, as amended (the Act), the Department may revoke an antidumping or countervailing duty order, in whole or in part, based on a review under section 751(b) of the Act (i.e., a changed circumstances review). Section 751(b)(1) of the Act requires a changed circumstances review to be conducted upon receipt of a request which shows changed circumstances sufficient to warrant a review. Section 782(h)(1) of the Act gives the Department the authority to revoke if producers accounting for substantially all of the production of the domestic like product have expressed a lack of interest in the continuation of relief. Section 351.222(g) of the Department's regulations provides that the Department will conduct a changed circumstances administrative review under 19 CFR 351.216, and may revoke an order (in whole or in part), if it concludes that (i) producers accounting for substantially all of the production of the domestic like product to which the order pertains have expressed a lack of interest in the relief provided by the order, in whole or in part, or (ii) other changed circumstances sufficient to warrant revocation exist.

As stated in the Initiation Notice, petitioners and domestic interested parties attested to their lack of interest in having the merchandise commonly referred to as CastoDur Diamond Plate or certain wear plate, and fully described above in the “Scope of the Changed Circumstances Reviews” section, continue to be subject to the AD orders on corrosion-resistant carbon steel flat products from Canada and Germany.² See Eutectic Requests at Attachments 1-4 and Memorandum to the File, from Angelica L. Mendoza, Senior Case Analyst, Office 7, “Confirmation of Interested Parties' Lack of Interest for 'Wear Plate' (marketed as 'CastoDur Diamond Plate') to Be Subject to the Above-Captioned Antidumping Duty Orders,” dated December 7, 2005. Since the Department received no comments during the comment period opposing the partial revocation of the orders as to certain wear plate products from these antidumping duty orders, the Department preliminarily concludes that producers accounting for substantially all of the production of the domestic like product to which these orders pertain, lack interest in the relief provided by these orders with respect to certain wear plate products. If these results become final, the Department will revoke the orders, in part, for all unliquidated entries, not subject to the final results of an administrative review, of products that meet the specifications set forth above, and that were entered for consumption on or after August 1, 2005, the beginning of the most recent review period. The Department will also instruct U.S. Customs and Border Protection to end the suspension of liquidation for certain wear plate products covered by these orders, and to release any cash deposits or bonds pursuant to 19 CFR 351.222(g)(4).

² Petitioners include: United States Steel Corporation (U.S. Steel) and Mittal Steel USA ISG Inc. (formerly Bethlehem Steel Corporation, Ispat Inland Steel, and LTV Steel Company, Inc.). Domestic interested parties include: Nucor Plate Group of Nucor Corporation and Ipsco Inc.

Interested parties wishing to comment on these preliminary results may submit briefs to the Department no later than 16 days after the publication of this notice in the Federal Register.³ Parties will have five days subsequent to this due date to submit rebuttal comments, limited to the issues raised in those briefs. Parties who submit briefs or rebuttal comments in this proceeding are requested to submit with each argument (1) a statement of the issue and (2) a brief summary of the argument (no longer than five pages, including footnotes). Any requests for hearing must be filed within 30 days of the publication of this notice in the Federal Register.

³ All the interested parties presently known have stated that they no longer are seeking relief for this product and no longer are interested in its inclusion in scope of these orders, and therefore, we are using our discretion to alter the time period for comments.

All written comments must be submitted in accordance with 19 CFR 351.303, with the exception that only three (3) copies for each case need be served on the Department. Any comments must also be served on all interested parties on the Department's service list, which is available on our website (http://ia.ita.doc.gov/apo/index.html). The Department will issue its final results in these changed circumstances reviews as soon as practicable following the above comment period, but not later than 270 days after the date on which the changed circumstances reviews were initiated, in accordance with 19 CFR 351.216(e), and will publish these results in the Federal Register. While the changed circumstances reviews are underway, the current requirement for a cash deposit of estimated antidumping duties on all subject merchandise, including the merchandise that is the subject of these changed circumstances reviews, will continue unless and until these orders are revoked, in part, pursuant to the final results of these changed circumstances reviews or an administrative review.

This notice is published in accordance with sections 751(b)(1) and 777(i)(1) of the Act and 19 CFR 351.216 and 351.222.

Dated: February 1, 2006.
David M. Spooner,
Assistant Secretary for Import Administration.

[FR Doc. E6-1725 Filed 2-7-06; 8:45 am]

BILLING CODE 3510-DS-S